ENVIRONMENTAL PROTECTION AGENCY

[EPA-HQ-OPP-2010-0014; FRL-8808-2]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by July 26, 2010 orders will be issued canceling these registrations. The Agency will consider withdrawal requests postmarked no later than July 26, 2010. Comments must be received on or before July 26, 2010.

ADDRESSES: Submit your comments and your withdrawal request, identified by docket identification (ID) number EPA-HQ-OPP-2010-0014, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention: Maia Tatinclaux, Pesticide Re-evaluation Division (7508P).

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2010-0014. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Office of Pesticide Programs (7508P), Environmental Protection Agency, 1200 Pennsylvania Ave., NW., Washington, DC 20460-0001; telephone number: (703) 347-0123; e-mail address: tatinclaux.maia@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 56 pesticide products registered under section 3 or 24(c) of FIFRA. These registrations are listed in sequence by registration number (or company number and 24(c) number) in Table 1 of this unit:

Table 1.—Registrations with Pending Requests for Cancellation
Registration No. | Product Name | Chemical Name
000004-00312 | Houseplant Helper | Resmethrin
000004-00315 | Bonide Liquid Rotenone Pyrethrins Spray | Pyrethrins Rotenone
000004-00337 | Insect Fog | Resmethrin
000228-00243 | Riverdale Cattle Spray | Pyrethrins PBO
000228-00245 | Riverdale Insect Killer | Pyrethrins PBO
000228-00246 | Riverdale Home and Garden Insect Spray | Pyrethrins PBO MGK 264
000228-00247 | Riverdale Pyrethrin Concentrate | Pyrethrins PBO
000228-00250 | Riverdale Patio & Yard Outdoor Fogger | Pyrethrins PBO
000279-03404 | Intruder II | Pyrethrin PBO Cyfluthrin
000655-00079 | Prentox 25% Malathion Dust Concentrate | Malathion
000655-00778 | Prentox Resmethrin 3% | Resmethrin
000655-00779 | Prentox Resmethrin 0.5% RTU | Resmethrin
000655-00787 | Prentox Resmethrin EC3 | Resmethrin
000703-00001 | Buhach Insect Powder | Pyrethrins
000829-00075 | SA-50 Brand 50% Malathion Wettable Spray | Malathion
001543-00008 | Absorbine SuperShield II Fly Repellant | Resmethrin
001543-00009 | Absorbine Concentrated Fly Repellant | Resmethrin
001769-00373 | Danco Concentrate | PBO Pyrethrins MGK 264
002517-00028 | Geisler No Mite Spray | PBO Pyrethrins MGk 264
002517-00047 | Sergeant's Skip-Flea Shampoo for Dogs | PBO
002517-00055 | Sergeant's Rug Patrol Carpet Insecticide and Freshener Formula B | PBO
002517-00069 | Sergeant's Multipurpose Flea & Tick Killer I | PBO Pyrethrins Permethrin
002517-00072 | Sergeant's Flea & Tick Powder with Pyrethrins | PBO Pyrethrins Permethrin
002517-00073 | Sergeant's Flea & Tick Powder with Permethrin | PBO Permethrin
002517-00075 | Sergeants X-term Fogger with Nylar | Pyrethrin Permethrin MGK-264 Pyriproxifen
002517-00079 | SPI # 8325 | PBO Permethrin
002517-00106 | Ultra-Sect IGR Flea & Tick Mist | PBO Pyrethrins MGk 264
002517-00121 | Zema Flea & Tick Dip | PBO Pyrethrins
003862-00080 | Terminator | Resmethrin
004822-00145 | Johnson Yard Master Foam Vegetable Garden Insect Killer | Pyrethrins
004822-00155 | Product 29 Garden Insect Killer | Pyrethrins
004822-00311 | Pyrethrum Extract 25 | Pyrethrins
004822-00460 | Whitmire Residual Flea and Tick Spray for Dogs and Cats | Pyrethrins Permethrin
004822-00461 | Whitmire Residual Pressurized Flea and Tick Spray | Pyrethrins Permethrin
007405-00070 | Chemi-Cap Total Release Insect Fogger | Pyrethrins MGK-264 Permethrin
007461-00002 | Bug Stomper 4-3 | Resmethrin
008536-00033 | Thermal Fogging Insecticide Type M | PBO Pyrethrins MGK-264
008536-00036 | Cardinal 25-5 Insecticide | Pyrethrins Piperonyl Butoxide
008536-00037 | Cardinal Food Plant Concentrate Fogging Insecticide | PBO Pyrethrins
008536-00038 | Cardinal 1-2-3 Insecticide | Pyrethrins Piperonyl Butoxide MGK-264
008536-00039 | Cardinal 3-6-10 Insecticide | PBO Pyrethrins MGK-264
008660-00254 | Permethrin 0.5 Lawn Insect Control with Fertilizer | Permethrin
009816-00003 | Fiebing's Equilfend Flyspray for Horses | PBO Pyrethrins Permethrin
010772-00011 | Ear-Rite Insecticidal Ear Wash for Dogs | PBO Pyrethrins
010772-00016 | Lambert Kay Scented Flea and Tick Shampoo for Dogs, Cats and Ferrets | PBO Pyrethrins
010806-00011 | P-30 Insect Spray | Pyrethrins Piperonyl Butoxide MGK-264
013799-00017 | Four Paws Flea and Tick Soap | PBO Pyrethrins MGK 264
013799-00022 | Four Paws Mite & Lice Bird & Cage Spray | PBO Pyrethrins
013799-00025 | Four Paws Magic Coat Super Plus | PBO Pyrethrins MGK 264
035138-00074 | Aero Permethrin 25 | Permethrin
040208-00005 | Haymaker II Fogging Insecticide | PBO Pyrethrins
040391-00004 | Resmethrin Insect Spray | Resmethrin
040391-00005 | Auto Fog-5 | Resmethrin
040391-00011 | Auto Fog-10 | Resmethrin
040391-00012 | Auto Fog-30 | Resmethrin
066330-00220 | Malathion 5EC | Malathion

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company Number | Company Name and Address
4 | Bonide Products, Inc. Agent Registrations By Design, Inc. P.O. Box 1019 Salem, VA 24153-3805
228 | Nufarm Americas INC 150 Harvester Dr, Suite 200 Burr Ridge, IL 60527
279 | FMC Corp. Agricultural Products Group 1735 Market St, RM 1978 Philadelphia, PA 19103
655 | Prentiss, INC. 3600 Mansell Rd, Suite 350 Alpharetta, Georgia 30022
703 | Buhach Company 14336 SE 84 CT Newcastle, WA 98059
829 | Southern Agricultural Insecticides, Inc. P.O. Box 218 Palmetto, FL 34220
1543 | W.F. Young, Inc. 302 Benton Drive East Longmeadow, MA 01028
1769 | NCH Corp. M 2727 Chemsearch Blvd. Irving, Texas 75062
2517 | Sergeant's Pet Care Products, Inc. 2625 South 158th Plaza Omaha, Nebraska 68130-1703
3862 | ABC Compounding Co, Inc. P.O. Box 16247 Atlanta, Georgia 30321
4822 | S.C. Johnson & Son, Inc. 1525 Howe St. Racine, Wisconsin 53403
7405 | CP Aeroscience, INC. P.O. BOX 667770 Pompano Beach, FL 33066
7461 | The Bug Stomper of LA, INC. P.O. Box 704 Springhill, LA 71075
8536 | Soil Chemicals Corporation P.O. Box 782 Hollister, California 95024
8660 | United Industries Corp. D/B/A Sylorr Plant Corp P.O. Box 14642 St. Louis, MO 63114-0642
9816 | Fiebing Company, INC. P.O. Box 694 Milwaukee, Wisconsin 53201-0694
10772 | Church & Dwight CO INC 469 North Harrison St Princeton, New Jersey 08543-5297
10806 | Contact Industries, Div. of Safeguard Chemical Corp. 411 Wales Avenue Bronx, NY 10454
13799 | Four Paws Products LTD 50 Wireless Boulevard Hauppauge, New York 11788
35138 | Aero Chem 1396 Lee Lane Raymond, MS 39154
40208 | Lawson Products, Inc. D/B/A Drummond, A Lawson Brand 600 Corporate Woods Parkway Vernon Hills, Illinois 60061-3165
40391 | Entech Systems Corporation 509 Tower Valley Drive Hillsboro, Missouri 63050
66330 | Arysta Lifescience North America, LLC. 155401 Weston Parkway, Suite 150 Cary, NC 27513

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before July 26, 2010. This written withdrawal of the request for cancellation will apply only to the applicable FIFRA section 6(f)(1) request listed in this notice. If the products have been subject to a previous cancellation action, the effective date of cancellation and all other provisions of any earlier cancellation action are controlling. The withdrawal request must also include a commitment to pay any reregistration fees due, and to fulfill any applicable unsatisfied data requirements.

V. Provisions for Disposition of Existing Stocks

Existing stocks are those stocks of registered pesticide products which are currently in the United States and which were packaged, labeled, and released for shipment prior to the effective date of the cancellation action. EPA’s existing stocks policy (56 FR 29362, June 26, 1991) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Upon cancellation of the pesticides identified in Table 1, EPA anticipates allowing sale, distribution and use as described above. Exception to this general policy will be made in specific cases when more stringent restrictions on sale, distribution, or use of the products or their ingredients have already been imposed, as in a special review action, or where the Agency has identified significant potential risk concerns associated with a particular chemical.

List of Subjects

Environmental protection, Pesticides and pests.

Dated: January 14, 2010
Richard P. Keigwin, Jr.,
Director, Pesticide Re-evaluation Division, Office of Pesticide Programs.

[FR Doc. 2010-1476 Filed 1-25-10; 8:45 am]

BILLING CODE 6560-50-S